SECURITIES AND EXCHANGE COMMISSION

[File No. 500-1]

In the Matter of KPNQwest N.V. and Preventia, Inc.; Order of Suspension of Trading

June 18, 2015.

It appears to the Securities and Exchange Commission that there is a lack of current and accurate information concerning the securities of KPNQwest N.V. (CIK No. 1097566), a Netherlands corporation with its principal place of business listed as Hoofddorp, The Netherlands, with stock quoted on OTC Link (previously, “Pink Sheets”) operated by OTC Markets Group, Inc. (“OTC Link”) under the ticker symbol KQIPQ, because it has not filed any periodic reports since the period ended December 31, 2000. On March 10, 2014, KPNQwest N.V. received a delinquency letter sent by the Division of Corporation Finance requesting compliance with their periodic filing obligations.

It appears to the Securities and Exchange Commission that there is a lack of current and accurate information concerning the securities of Preventia, Inc. (CIK No. 1506302), a defaulted Nevada corporation with its principal place of business listed as Toronto, Ontario, Canada, with stock quoted on OTC Link under the ticker symbol PVTA, because it has not filed any periodic reports since the period ended September 30, 2012. On September 16, 2014, the Division of Corporation Finance sent Preventia a delinquency letter requesting compliance with their periodic filing obligations, but the letter was returned because of Preventia's failure to maintain a valid address on file with the Commission.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 18, 2015, through 11:59 p.m. EDT on July 1, 2015.

By the Commission.

Jill M. Peterson,
Assistant Secretary.

[FR Doc. 2015-15375 Filed 6-18-15; 4:15 pm]

BILLING CODE 8011-01-P